FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

5G Logistics Solutions LLC (NVO & OFF), 5090 NW 116th Court, Doral, FL 33178. Officers: Carolina Loyola, President (QI), Claudia M. Rojas, Vice President. Application Type: New NVO & OFF License.

American Cargo International, Inc. (NVO & OFF), 1303 NW 78th Avenue, Miami, FL 33128. Officers: Annia De Paz, Vice President (QI), Alina Quintana, Member. Application Type: License Transfer to American Cargo International, LLC.

Atlanta Customs Brokers & Intl Freight Forwarders Inc dba ACB Ocean Services (NVO & OFF), 650 Atlanta South Parkway, Suite 104, Atlanta, GA 30349. Officers: Kathy Williams, Vice President Exports (QI), Harold Hagans, President. Application Type: New NVO & OFF License.

Bennett International Transport, L.L.C. (NVO & OFF), 1001 Industrial Parkway, McDonough, GA 30253. Officers: Tricia B. Reynolds, Vice President (QI), Marcia G. Taylor, Managing Member. Application Type: QI Change.

CMS Shipping Agency, Inc. dba Atlantic Pacific Lines (NVO & OFF), 1074 Broadway, Suite 200, West Long Branch, NJ 07764. Officer: Munish Sachdev, President (QI). Application Type: Name Change to Atlantic Pacific Lines, Inc, dba Atlantic Pacific Lines.

DBN Carrier, Inc. (NVO), 430 S. Burnside Avenue, Suite 5B, Los Angeles, CA 90036. Officers: Bayasgalan Lkhamsuren, President (QI), Amgalan Lkhamsuren, Secretary. Application Type: New NVO License.

Evgeny Lavrentev dba Galaxy Enterprises LA (NVO), 15445 Ventura Blvd., Suite 25, Sherman Oaks, CA 91403. Officer: Evgeny Lavrentev, Sole Proprietor (QI). Application Type: New NVO License.

Forward Systems Group, Inc. (NVO & OFF), 1915 NW 79th Avenue, Doral, FL 33126. Officers: Maurice Forelle, President (QI), Cesar R. Castano, COO. Application Type: New NVO & OFF License.

James J. Boyle & Co. dba JJB Global Logistics Co., Ltd. dba JJB Inland Logistics JJB Link Logistics Company Limited (NVO & OFF), 1097 Sneath Lane, San Bruno, CA 94066. Officers: Greg Kodama, President (QI), Edward H. Inouye, CEO. Application Type: Delete Trade Names JJB Global Logistics Co., Ltd. and JJB Inland Logistics.

Marcos Enterprises, Inc. dba Comprayenvia.Net (NVO & OFF), 6923 Narcoossee Road, Suite 623, Orlando, FL 32822. Officers: Marcos Urbina, President (QI), Rosana Lopez, Secretary. Application Type: New NVO & OFF License.

NMC Logistics Solutions, Inc. (NVO & OFF), 9910 NW 21st Street, Doral, FL 33172. Officers: Orlando Jimenez, President (QI), Natty Moreno, Secretary. Application Type: New NVO & OFF License.

Platinum Cargo Logistics, Inc. (NVO & OFF), 19250 S. Van Ness Avenue, Torrance, CA 90501. Officers: Andrew R. Mancione, Midwest Regional Vice President (QI), Kelli Spiri, President. Application Type: QI Change.

Pole Star Shipping Inc (NVO & OFF), 65 Demarest Drive, Manalapan, NJ 07726. Officers: Angela Simeone, Secretary (QI), Ashwani Sharma, President. Application Type: New NVO & OFF License.

Project Rail, LLC dba Vectora Transportation (NVO & OFF), 200 West Madison, Suite 1820, Chicago, IL 60606. Officers: Christopher M. Ball, President (QI), Graham Y. Brisben, Manager/Member. Application Type: Transfer to Vectora Solutions, LLC dba Vectora Transportation.

Rahm Logistics, Inc. (OFF), 3750 Fairfax Way, South San Francisco, CA 94090. Officer: Herbert W. Rahm, CEO (QI). Application Type: New OFF License.

Sprint Cargo Corp. (NVO), 3636 33rd Street, Suite 207, Astoria, NY 11106. Officer: Ali A. Siddiqui, President (QI). Application Type: New NVO License.

SR Intel Freight, Inc. (NVO), 625 West Victoria Street, Compton, CA 90220. Officer: Wu J. Yi, President (QI). Application Type: Name Change to SR Inter Freight, Inc.

Transphere, Inc. dba Transend International (NVO & OFF), 5800 Commerce Drive, Suite 101, Westland, MI 48185. Officers: Chetan Koradia, President (QI), Smita Koradia, Vice President. Application Type: Add NVO Service.

By the Commission.
Dated: November 23, 2012.
Karen V. Gregory,
Secretary.

[FR Doc. 2012-28836 Filed 11-27-12; 8:45 am]

BILLING CODE 6730-01-P